DEPARTMENT OF ENERGY

Federal Energy Regulatory Commission

Combined Notice of Filings #3

Take notice that the Commission received the following exempt wholesale generator filings:

Docket Numbers: EG12-30-000

Applicants: Spring Valley Wind LLC

Description: Self-Certification of EG of Spring Valley Wind LLC.

Filed Date: 1/31/12

Accession Number: 20120131-5153

Comments Due: 5 p.m. ET 2/21/12

Take notice that the Commission received the following electric rate filings:

Docket Numbers: ER12-938-000

Applicants: Pacific Gas and Electric Company

Description: CCSF IA—36th Quarterly Filing of Facilities Agreements to be effective 12/31/2011.

Filed Date: 1/31/12

Accession Number: 20120131-5000

Comments Due: 5 p.m. ET 2/21/12

Docket Numbers: ER12-939-000

Applicants: PacifiCorp

Description: PAC Energy NITSA Rev 12 to be effective 1/1/2012.

Filed Date: 1/31/12

Accession Number: 20120131-5001

Comments Due: 5 p.m. ET 2/21/12

Docket Numbers: ER12-943-000

Applicants: ITC Midwest LLC

Description: Filing of Amended and Restated Agreement to be effective 4/2/2012.

Filed Date: 1/31/12

Accession Number: 20120131-5065

Comments Due: 5 p.m. ET 2/21/12

Docket Numbers: ER12-944-000

Applicants: ITC Midwest LLC

Description: Filing of Amended and Restated Agreement to be effective 4/2/2012.

Filed Date: 1/31/12

Accession Number: 20120131-5073

Comments Due: 5 p.m. ET 2/21/12

Docket Numbers: ER12-945-000

Applicants: Southern California Edison Company

Description: Notices of Cancellation of 8 Letter Agreements with SCE-GBU for Roof Top Solar Projects to be effective 4/1/2012.

Filed Date: 1/31/12

Accession Number: 20120131-5104

Comments Due: 5 p.m. ET 2/21/12

Docket Numbers: ER12-946-000

Applicants: PJM Interconnection, L.L.C.

Description: ISA for Integration of Duke Energy Ohio, Inc. Into PJM SA No. 3192 to be effective 1/1/2012.

Filed Date: 1/31/12

Accession Number: 20120131-5106

Comments Due: 5 p.m. ET 2/21/12

Docket Numbers: ER12-947-000

Applicants: ISO New England Inc., New England Power Pool Participants Committee

Description: FCM Conforming Changes to be effective 6/1/2012.

Filed Date: 1/31/12

Accession Number: 20120131-5117

Comments Due: 5 p.m. ET 2/21/12

Docket Numbers: ER12-948-000

Applicants: Accent Energy Midwest II LLC

Description: Baseline new Market Based Rates to be effective 2/1/2012.

Filed Date: 1/31/12

Accession Number: 20120131-5163

Comments Due: 5 p.m. ET 2/21/12

Docket Numbers: ER12-949-000

Applicants: PacifiCorp

Description: Black Hills NITSA and Long Term Firm Point to Point Service Agreement to be effective 1/1/2012.

Filed Date: 1/31/12

Accession Number: 20120131-5167

Comments Due: 5 p.m. ET 2/21/12

Docket Numbers: ER12-950-000

Applicants: Public Service Company of Colorado

Description: Public Service Company of Colorado submits Notice of Termination of Rate Schedule No. 63.

Filed Date: 1/31/12

Accession Number: 20120131-5287

Comments Due: 5 p.m. ET 2/21/12

Docket Numbers: ER12-951-000

Applicants: New England Power Pool Participants Committee

Description: Feb 2012 Membership Filing to be effective 1/1/2012.

Filed Date: 1/31/12

Accession Number: 20120131-5290

Comments Due: 5 p.m. ET 2/21/12

Docket Numbers: ER12-952-000

Applicants: Essential Power, LLC

Description: Application for Market-Based Rate Authority to be effective 4/1/2012.

Filed Date: 1/31/12

Accession Number: 20120131-5291

Comments Due: 5 p.m. ET 2/21/12

Take notice that the Commission received the following electric securities filings:

Docket Numbers: ES12-19-000

Applicants: Alliant Energy Corporate Services, Inc.

Description: Application of Alliant Energy Corporate Services, Inc., for FPA Section 204 Authorization.

Filed Date: 1/31/12

Accession Number: 20120131-5288

Comments Due: 5 p.m. ET 2/21/12

Take notice that the Commission received the following land acquisition reports:

Docket Numbers: LA11-4-000

Applicants: Spring Canyon Energy LLC, Judith Gap Energy LLC, Invenergy TN LLC, Wolverine Creek Energy LLC, Grays Harbor Energy LLC, Forward Energy LLC, Willow Creek Energy LLC, Sheldon Energy LLC, Hardee Power Partners Limited, Spindle Hill Energy LLC, Invenergy Cannon Falls LLC, Beech Ridge Energy LLC, Grand Ridge Energy LLC, Grand Ridge Energy II LLC, Grand Ridge Energy III LLC, Grand Ridge Energy IV LLC, Grand Ridge Energy V LLC, VantageWind Energy LLC, Stony Creek Energy LLC, Gratiot CountyWind LLC, Gratiot CountyWind II LLC, Bishop Hill Energy LLC, Bishop Hill Energy II LLC, Bishop Hill Energy III LLC

Description: Generation Site Report Fourth Quarter 2011 of Spring Canyon Energy LLC, et al.

Filed Date: 1/31/12

Accession Number: 20120131-5126

Comments Due: 5 p.m. ET 2/21/12

The filings are accessible in the Commission's eLibrary system by clicking on the links or querying the docket number.

Any person desiring to intervene or protest in any of the above proceedings must file in accordance with Rules 211 and 214 of the Commission's Regulations (18 CFR 385.211 and 385.214) on or before 5 pm Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 31, 2012.
Nathaniel J. Davis, Sr.,
Deputy Secretary.

[FR Doc. 2012-2714 Filed 2-6-12; 8:45 am]

BILLING CODE 6717-01-P